DEPARTMENT OF TRANSPORTATION

Coast Guard

[USCG-2001-9188]

Proposed Decommissioning and/or Excessing of the Remaining 180-foot Seagoing Buoy Tender Class, and the Proposed Excessing of the Vessel, FIR (WLM 212)

AGENCY: U.S. Coast Guard, DOT.

ACTION: Notice of availability.

SUMMARY: The U.S. Coast Guard announces the availability of the final Programmatic Environmental Assessment and the Finding of No Significant Impact on its proposal to decommission and/or declare excess the remaining vessels in the 180-foot seagoing buoy tender fleet and the proposed excessing of the former United States Coast Guard Cutter, FIR (WLM-212).

DATES: The Final Programmatic Environmental Assessment (PEA) and the Finding of No Significant Impact (FONSI) will be available on October 31, 2001.

ADDRESSES: The Docket Management Facility maintains the public docket for this notice. The Final Programmatic Environmental Assessment (PEA) and the Finding of No Significant Impact (FONSI) are available for inspection or copying in room PL-401 on the Plaza level of the Nassif Building, 400 Seventh Street SW., Washington, DC, between 9 a.m. and 5 p.m., Monday through Friday, except Federal holidays. You may also find this docket, including the PEA, on the Internet at http://dms.dot.gov.

FOR FURTHER INFORMATION CONTACT: If you have questions on this notice, the proposed project, or the associated assessment, call Ms. Kebby Kelley, U.S. Coast Guard, telephone 202-267-6034. If you have questions on viewing or submitting material to the docket, call Dorothy Beard, Chief, Dockets, Department of Transportation, telephone 202-366-9329.

SUPPLEMENTARY INFORMATION:

Proposed Action

The U.S. Coast Guard (USCG) proposes to decommission and/or declare excess the remaining vessels in its aging fleet of 180-foot seagoing buoy tenders and declare the former United States Coast Guard Cutter, FIR (WLM-212), excess to its needs. The USCG has determined that the entire class of 180-foot vessels is eligible for listing in the National Register of Historic Places (NRHP). Additionally, FIR (WLM-212) is a National Historic Landmark listed on the NRHP. The USCG intends to replace the 180-foot WLBs with 175-foot Coastal Buoy Tenders (WLMs) and 225-foot Coastal Buoy Tenders (WLBs). These new vessels will support the same mission requirements as the 180-foot WLBs, with state-of-the-art technology.

While the 180-foot WLBs have contributed to nearly every USCG mission area, their primary contribution has been servicing the Short Range Aids to Navigation System. All 180-foot WLBs are over 50 years of age and further renovation is impractical. Excessive maintenance problems stemming from the age of these vessels are also being experienced with resultant reduced reliability and increased operating costs. The Federal Property Administrative Services Act (FPASA) (40 U.S.C. Chapter 10) requires that excess property be identified and declared as such. Therefore, the USCG has an operational, economic, and legal need to cost-effectively rid itself of obsolete and inefficient vessels that can no longer effectively carry out the USCG missions they were designed for. Consequently, the USCG is proposing to decommission (remove the vessels from active use) and declare the current WLB fleet excess to its needs. In order to declare a vessel excess, the USCG must complete a report of survey that states that the vessel is excess to its needs. The USCG provides the General Services Administration (GSA) with a Standard Form 120 for the excess material. Following submittal to GSA, the standard mandated GSA process for disposing of Federally owned materials ensues. Built in 1939, FIR (WLM 212) is classified as a National Historic Landmark and as such is listed on the NRHP. Homeported for 50 years in Washington State, FIR served buoys, lighthouses, and other navigation aids in the Pacific Northwest. FIR is the last surviving unaltered American lighthouse tender, and was the last working member of the U.S. Lighthouse Service fleet.

The FIR has reached the end of its service life. The vessel is over 50 years of age. Excessive maintenance problems stemming from the age of FIR were experienced with resultant reduced reliability and increased operating costs. As a result of its age and condition, the USCG decommissioned FIR in 1996. At present, the USCG is incurring costs to store the vessel in Suisun Bay, California. As previously stated, it is a requirement of the FPASA that excess property be identified by the USCG and declared as such. Therefore, the USCG has an operational, economic, and legal need to cost effectively rid itself of the obsolete and inefficient FIR.

Final Programmatic Environmental Assessment

The Coast Guard completed a draft Programmatic Environmental Assessment (PEA) in March of 2001 and published a Notice of Availability in the Federal Register on April 23, 2001 (66 FR 20513). The draft PEA identified and examined the reasonable alternatives to our proposed action and assessed potential environmental impacts. The alternatives analyzed in the draft PEA were chosen because they fulfilled the need for the USCG to cost effectively and legally rid itself of obsolete and inefficient vessels that can no longer effectively carry out the USCG missions they were designed for. In analyzing these alternatives for environmental impact, the draft PEA looked at the impacts of decommissioning and excessing which we control, and then generally, at the possible environmental impacts resulting from each component of the mandated disposal process—the connected actions to the decommissioning and/or excessing of our remaining 180-foot vessels and FIR.

The draft PEA concluded that the only area of significant impact from the Coast Guard's proposed action was the impact to the historic character of the vessels. However, the PEA states the Coast Guard's commitment to performing photo-documentation and the completion of historic narratives for the remaining vessels in the 180-foot fleet and for, FIR. The photographs and the historic narratives will be deposited in the Library of Congress and distributed to the affected states and interested parties. Future generations will thus have the ability to appreciate the contribution of these vessels to this nation's maritime history. The Coast Guard's commitment to providing the historical documentation, as indicated in the PEA, will mitigate the potential for significant impacts to historic resources to an insignificant level.

No substantive comments or environmental concerns related to the draft PEA or the Coast Guard's proposed action were received during the comment period for the draft PEA. Therefore, this notice announces our decision to make the draft PEA our final PEA without any further revisions. Additionally, this notice announces the availability of our FONSI for the proposed action described in the PEA. All those who received a copy of the draft PEA, will receive a copy of the final PEA cover pages and the FONSI along with a letter explaining our decision to make the draft our final document.

Dated: October 24, 2001.
Harvey E. Johnson,
Rear Admiral, U.S. Coast Guard, Director of Operations Capability.

[FR Doc. 01-27387 Filed 10-30-01; 8:45 am]

BILLING CODE 4910-15-P